DEPARTMENT OF THE TREASURY

Notice of Availability; Data Collection Effort for E.O. 13985—Increasing Equity in Procurement Spending Barrier Assessment

Correction

In notice document 2022-00473, appearing on pages 2240-2241, in the issue of Thursday, January 13, 2022, make the following correction:

On page 2240, in the third column, in the ADDRESSES section, the second through fourth lines should read:

https://survey.alchemer.com/s3/6659553/OSBDU-Data-Collection-Effort-for-EO-13985.

[FR Doc. C1-2022-00473 Filed 1-19-22; 8:45 am]

BILLING CODE 0099-10-D